DEPARTMENT OF HEALTH AND HUMAN SERVICES

Administration for Children and Families

Child Care Bureau Research Scholars

Announcement Type: Initial.

Funding Opportunity Number: HHS-2005-ACF-ACYF-YE-0010.

CFDA Number: 93.647.

Dates: Due Date for Notice of Intent or Preapplications: Notice of Intent is due April 25, 2005.

Due Date for Applications: Application is due May 23, 2005.

Executive Summary: The Administration for Children and Families' (ACF), Administration on Children, Youth and Families' (ACYF), Child Care Bureau (CCB) announces the availability of funds to support new CCB Research Scholar projects in Fiscal Year 2005. The Research Scholar Grants are designed to increase the number of graduate students conducting dissertation research on child care issues that are consistent with the Bureau's research agenda.

I. Funding Opportunity Description

The Administration for Children and Families' (ACF), Administration on Children Youth and Families' (ACYF), Child Care Bureau (CCB) announces the availability of funds to support new CCB Research Scholar projects in Fiscal Year 2005. The Research Scholar grants are designed to increase the number of graduate students conducting dissertation research on child care issues that are consistent with the Bureau's research agenda.

Priority Area 1

1. Description

A. Child Care Bureau. Since its establishment in 1995, the CCB has been dedicated to enhancing the quality, affordability, and supply of child care available for all families. CCB administers the Child Care and Development Fund (CCDF), a $4.8 billion child care program that includes funding for child care subsidies and activities to improve child care quality and availability. The CCDF was created after amendments to ACF child care programs by Title VI of the Personal Responsibility and Work Opportunity Reconciliation Act of 1996 consolidated four Federal child care funding streams, including the Child Care and Development Block Grant, AFDC/JOBS Child Care, Transitional Child Care, and At-Risk Child Care. The entitlement portion consisted of mandatory and matching funds made available under section 418 of the Social Security Act, while the discretionary funding was authorized by the Child Care and Development Block Grant Act. The combined funding from these streams was designated the CCDF. With related State and Federal funding, CCDF provides more than $11 billion a year to States, Territories, and Tribes to help low-income, working families access child care.

The Bureau works closely with States, Territories, Tribes, and ACF regions to facilitate, oversee, and document the implementation of new policies and programs that support State, local, and private sector administration of child care services and systems. In addition, the Bureau collaborates extensively with other offices throughout the Federal government to promote integrated approaches, family-focused services, and coordinated child care delivery systems. In all of these activities, the Bureau strives to support children's healthy growth and development in safe child care environments, promote children's early learning and school readiness, enhance parental choice and involvement in their children's care, and facilitate the linkage of child care with other community services.

B. Child Care Bureau's Research Agenda. Since 2000, Congress has appropriated about $10 million per year of CCDF discretionary funds to be used for child care research and evaluation, and the CCB has used these funds to develop its research agenda. The Bureau's FY 2005 child care research agenda will continue ongoing projects and launch new research initiatives. CCB's research agenda supports activities that will generate knowledge about child care services and programs and inform policy decisions and solutions. We intend to improve our capacity to respond to questions of immediate concern to policy makers, strengthen the child care research infrastructure, and increase knowledge about the efficacy of child care policies and programs in providing positive learning and school readiness outcomes for children and employment and self-sufficiency outcomes for parents.

The CCB's capacity to further child care related research and data is enhanced by the Child Care Policy Consortium, which is an alliance of research projects sponsored by CCB. The consortium is comprised of researchers who have partnered with policy organizations, States, and local communities to link research, policy, and practice. The research projects of consortium members cover a wide array of topics. For example, some projects describe State and local child care populations, services, and programs, while others focus on child care subsidy policies and market dynamics. In addition, some projects examine issues surrounding professional development and training approaches for child care providers.

In order to synthesize the broad array of child care information generated, CCB created the Child Care and Early Education Research Connections (Research Connections) to serve as a national research knowledge management system for the child care and early education fields. Research Connections consists of an interactive Web site, an archive of data sets and reports, and a technical assistance support system to assist researchers and facilitate collaboration.

C. Purpose and Goals of the CCB Research Scholar Program. The purpose of this grant program is to help develop a national infrastructure for high quality child care research by increasing the number of upcoming researchers investigating child care issues that are consistent with the Bureau's research agenda.

The goals of this program area are as follows:

1. To foster formal mentoring relationships between faculty members and graduate students who are pursuing research in the child care field. Each student will work in partnership with a faculty mentor in order to foster the skills necessary to build a graduate student's career trajectory. Within this nurturing and supportive mentoring relationship, scholars are empowered to become autonomous researchers with the skills necessary to address critical child care issues with a high level of technical quality. The faculty mentor will be listed as the Principal Investigator of the grant and will ensure that all requirements are met and that a high quality dissertation is completed.

2. To support students' graduate training and professional development as researchers engaged in policy-relevant research. Students are expected to become autonomous researchers who are connected to other professionals from diverse backgrounds across a variety of child care roles. Research projects may include independent studies conducted by the student or a well-defined portion of a larger study being conducted by the Principal Investigator holding a faculty position or senior research position and for which the graduate student will have primary responsibility. Research projects must use sound quantitative or qualitative research methodologies or some combination of the two. The student must be the author of the grant proposal.

3. To encourage active communication, networking, and collaboration among graduate students, their mentors, other prominent child care researchers, and policy makers. Students whose projects involve community-level or administrative-level research are encouraged to work with an additional mentor from the field in order to gain a more comprehensive understanding of child care policies and practices. Students whose work involves secondary analysis of large data sets are encouraged to work closely with one or more senior investigators on the original project. In order to facilitate students' networking with policy makers, students are required to participate in CCB's Annual Meeting of the Child Care Policy Research Consortium and the State Administrators' Meeting.

II. Award Information

Funding Instrument Type: Grant.

Anticipated Total Priority Area Funding Per Budget Period: $120,000 per budget period.

Anticipated Number of Awards: 4.

Average Projected Award Amount Per Budget Period: $30,000 per budget period.

Ceiling on Individual Awards Per Budget Period: $30,000 per budget period.

Floor on amount of individual awards: None.

Length of Project Periods: 24-month project with two 12-month budget periods.

Other

Explanation of other: This announcement is inviting applications for project periods of up to 24 months with two 12-month budget periods. Pending the availability of funds and receipt of satisfactory applications, grants will be awarded for up to $30,000 for the first 12-month budget period and up to $20,000 for the second 12-month budget period, for a total not exceeding $50,000 for the entire 24-month project period. The need for a 24-month project period should be identified in the current application (on SF-424A) and in the project narrative and budget. If the student expects to receive a doctorate by the end of the first 12-month budget period, the application should request funding for only a 12-month project period. A subsequent year award for continuation of the project will not be approved if the student has completed his/her dissertation by the end of the first budget period.

An application that exceeds the upper value of the dollar range specified will be considered non-responsive and will not be eligible for funding under this announcement.

III. Eligibility Information

1. Eligible Applicants

State controlled institutions of higher education; Native American tribal governments (federally recognized); Nonprofits having a 501(c)(3) status with the IRS, other than institutions of higher education; Private institutions of higher education.

You must have a Data Universal Numbering System (DUNS) to be considered eligible.

Private, non-profit organizations are encouraged to submit with their applications the optional survey located under “Grant Manuals & Forms” at http://www.acf.hhs.gov/programs/ofs/forms.htm.

Additional Information on Eligibility: Institutions of Higher Education. Eligible institutions must be fully accredited by one of the regional accrediting commissions recognized by the Department of Education and the Council of Post-Secondary Accreditation. No individual educational institution will be funded for more than one candidate unless applications from different universities or colleges do not qualify for support.

Faith-based institutions are eligible applicants. In addition, Tribally Controlled Land Grant Colleges and Universities (TCUs) and Historically Black Colleges and Universities (HBCUs) are encouraged to apply. TCUs are those institutions cited in section 532 of the Equity in Educational Land Grant Status Act of 1994 (7 U.S.C. 301 note), any other institutions that qualify for funding under the Tribally Controlled Community College Assistance Act of 1978, (25 U.S.C. 1801 et seq.), and Navajo Community College, authorized in the Navajo Community College Assistance Act of 1978, Public Law 95-471, title II (25 U.S.C. 640a note). Those TCUs that are not accredited are not eligible to apply under this announcement.

HBCUs are defined in the amended version of the Higher Education Act of 1965, codified at 20 U.S.C. 1061(2), and are institutions established prior to 1964 whose principal mission was, and is, the education of Black Americans, and must satisfy Section 322 of the Higher Education Act of 1965, as amended. Institutions which meet the definition of “Part B institution” in Section 322 of the Higher Education Act of 1965, as amended, 20 U.S.C. 1061(2), shall be eligible for assistance under this announcement.

Eligible applicants are institutions of higher education acting on behalf of graduate students who are pursuing a doctorate and who are completing a dissertation on child care issues. As the author of the grant proposal, the student is expected to have an approved dissertation proposal before the beginning of the grant period, September 30, 2005. All monies must be used for the student's dissertation research, including required personnel costs, travel, and other expenses directly related to the research.

Please see Section IV.2 for required documentation supporting eligibility or funding restrictions if any are applicable.

2. Cost Sharing/Matching

None.

3. Other Eligibility Information

1. Contact information for both the graduate student and the student's faculty mentor is required and should be included in the Appendix. The student must be the author of the grant proposal.

2. The application must include a letter from the faculty mentor stating that he/she approves the application and describing how he/she will regularly monitor the student's work. In addition, the letter must verify (a) the student's status in the doctoral program, (b) that the grant will be used to fund the student's dissertation research, and (c) that the student is within two years or less of completing his/her dissertation. This letter should be included in the Appendix.

3. In the Appendix the student must include an official transcript reflecting his/her completed graduate course work.

4. Because of the small size of these grants and their value to institutions of higher education as well as to the student scholars, applicants are strongly encouraged to waive any allowable indirect costs.

All applicants must have a Dun & Bradstreet number. On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms” titled “Survey for Private, Non-Profit Grant Applicants” at http://www.acf.hhs.gov/programs/ofs/forms.htm.

Disqualification Factors

Applications that exceed the ceiling amount will be considered non-responsive and will not be eligible for funding under this announcement.

Any application received after 4:30 p.m., eastern time, on the deadline will not be considered for competition.

IV. Application and Submission Information

1. Address To Request Application Package

ACYF Operations Center, c/o The Dixon Group, Attn: Child Care Bureau Research Scholars Funding, 118 Q Street, NE., Washington, DC 20002-2132. Phone: 866-796-1591; e-mail: ccb@dixongroup.com; URL: http://www.acf.hhs.gov/grants/open/HHS-2005-ACF-ACYF-YE-0010.html.

2. Content and Form of Application Submission

Notice of Intent to Submit Application: If you intend to submit an application, please e-mail the ACYF Operations Center (ccb@dixongroup.com) and include the following information: The number and title of this announcement, your organization's name and address, and your contact person's name, title, phone number, fax number, and e-mail address. This notice is not required, but is strongly encouraged. The information will be used to determine the number of expert reviewers needed to evaluate applications and to update the mailing list for future program announcements.

Format and Organization. An original and two copies of your application must be submitted. Applicants must limit their application to 100 pages, double-spaced, with standard one-inch margins and 12-point fonts. This page limit applies to both narrative text and supporting materials. In addition, applicants must number the pages of their application and include a table of contents.

Applicants should include all required forms and materials and organize these materials according to the format presented below:

a. Letter of Intent to Submit Application (30 days prior to application due date).

b. Cover Letter.

c. Required Standard Forms and Certifications.

d. Table of Contents.

e. Project Abstract.

f. Project Description.

g. Budget Narrative/Justification.

h. Appendix.

Complete Contact Information for Student and Faculty Advisor;

Curriculum Vitae for Student and Faculty Advisor;

Letter of Support from Advisor;

Official Transcript of Student Reflecting Graduate Courses.

You may submit your application in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary, but strongly recommended.

• When you enter the Grants.Gov site, you will find information about submitting an application electronically through the site, as well as the hours of operation. We strongly recommend that you do not wait until the application deadline date to begin the application process through Grants.Gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, the applicant must have a DUNS number and register in the Central Contractor Registry (CCR). Applicants should allow a minimum of five days to complete the CCR registration.

• Applicants will not receive additional point value for submitting a grant application in electronic format, nor be penalized for submitting an application in paper format.

• Applicants may submit all documents electronically, including all information typically included on the SF-424 and all necessary assurances and certifications.

• Applications must comply with any page limitation requirements described in this program announcement.

• After submitting the electronic application, applicants will receive an automatic acknowledgement from Grants.gov that contains a Grants.gov tracking number. ACF will retrieve the application from Grants.gov.

• ACF may request that you provide original signatures on forms at a later date.

• The electronic application for this program can be accessed on http://www.Grants.gov.

• Search for the downloadable application package by the CFDA number.

An original and two copies of the complete application are required. The original and each of the two copies must include all required forms, certifications, assurances, and appendices, be signed by an authorized representative, have original signatures, and be submitted unbound.

Private non-profit organizations may voluntarily submit with their applications the survey located under “Grant Related Documents and Forms,” “Survey for Private, Non-Profit Grant Applicants,” titled, “Survey on Ensuring Equal Opportunity for Applicants,” at http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the project summary/abstract and the full project description.

3. Submission Dates and Times

Dates: Notices of Intent are due April 25, 2005.

Due Date: Application is due May 23, 2005.

Explanation of Due Dates: The closing time and date for receipt of applications is referenced above. Mailed or hand carried applications received after 4:30 p.m. eastern time on the closing date will be classified as late.

Deadline: Mailed applications shall be considered as meeting an announced deadline if they are received on or before the deadline time and date referenced in Section IV.6. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by fax. Therefore, applications transmitted to ACF by fax will not be accepted regardless of date or time of submission and time of receipt.

Late applications: Applications which do not meet the criteria above are considered late applications. ACF shall notify each late applicant that its application will not be considered in the current competition.

Any application received after 4:30 pm eastern time on the deadline date will not be considered for competition.

Receipt acknowledgement for application packages will not be provided to applicants who submit their package via mail, courier services, or by hand delivery. However, applicants will receive an electronic acknowledgement for applications that are submitted via Grants.gov.

Applicants using express/overnight mail services should allow two (2) working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Checklist
What to submit | Required content | Required form or format | When to submit
Notice of Intent to Submit Application | See Section IV.2 | Found in Section IV.2 | 30 days prior to application due date.
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
Table of Contents | See Section IV.2 | Found in Sections IV.2 | By application due date.
Complete Contact Information for Student and Faculty Advisor | See Section IV.2 | Found in Section III.3 and IV.2 | By application due date.
Curriculum Vitae for Student and Faculty Advisor | See Section IV.2 | Found in Section IV.2 | By application due date.
Letter of Support from Advisor | See Section IV.2 | Found in Section III.3 and IV.2 | By application due date.
Official Student Transcript Reflecting Graduate Courses | See Section IV.2 | Found in Section III.3 and IV.2 | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 |  | By date of award.

Additional Forms

Private, non-profit organizations are encouraged to submit with their applications the survey located under “Grant Related Documents and Forms” titled “Survey for Private, Non-Profit Grant Applicants” at http://www.acf.hhs.gov/programs/ofs/forms.htm.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

The following jurisdictions have elected not to participate in the Executive Order (E.O.) process. Applicants from these jurisdictions or for projects administered by federally-recognized Indian Tribes need to take no action in regard to E.O. 12372:

All States and Territories except Alabama, Alaska, Arizona, Colorado, Connecticut, Hawaii, Indiana, Idaho, Kansas, Louisiana, Massachusetts, Minnesota, Montana, Nebraska, New Jersey, Ohio, Oklahoma, Oregon, Pennsylvania, South Dakota, Tennessee, Vermont, Virginia, Washington, Wyoming, American Samoa and Palau have elected to participate in the Executive Order process and have established Single Points of Contact (SPOCs). Applicants from these twenty-four jurisdictions need take no action in regard to E.O. 12372. Applicants for projects to be administered by federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

A list of SPOCs for each State and Territory is included with the application materials for this announcement.

5. Funding Restrictions

Pre-award Costs: Grant awards will not allow reimbursement of pre-award costs.

Transferability: Grants awarded as a result of this competition are not transferable to another student or to another institution. Awards cannot be divided among two or more students.

Concurrent Awards: A CCB research scholar grant may not be held concurrently with another Federally-funded dissertation grant or fellowship.

6. Other Submission Requirements

Submission by Mail: An applicant must provide an original application with all attachments, signed by an authorized representative and two copies. The application must be received at the address below by 4:30 p.m. eastern time on or before the closing date. Applications should be mailed to: ACYF Operations Center, c/o The Dixon Group, Attn: Child Care Research Scholars Funding, 118 Q Street, NE., Washington, DC 20002-2132.

Hand Delivery: An applicant must provide an original application with all attachments signed by an authorized representative and two copies. The application must be received at the address below by 4:30 p.m., eastern time, on or before the closing date. Applications that are hand delivered will be accepted between the hours of 8 a.m. to 4:30 p.m., eastern time, Monday through Friday. Applications may be delivered to: ACYF Operations Center, c/o The Dixon Group, Attn: Child Care Research Scholars Funding, 118 Q Street, NE., Washington, DC 20002-2132.

Electronic Submission: http://www.grants.gov Please see Section IV. 2 for guidelines and requirements when submitting applications electronically.

V. Application Review Information

The Paperwork Reduction Act of 1995 (Pub. L. 104-13)

Public reporting burden for this collection of information is estimated to average 15 hours per response, including the time for reviewing instructions, gathering and maintaining the data needed and reviewing the collection information. This program announcement fully complies with the Paperwork Reduction Act through the use of the Uniform Project Description.

The project description is approved under OMB control number 0970-0139 which expires April 30, 2007. An agency may not conduct or sponsor, and a person is not required to respond to, a collection of information unless it displays a currently valid OMB control number.

1. Criteria

The following are instructions and guidelines on how to prepare the “project summary/abstract” and “Full Project Description” sections of the application. Under the evaluation criteria section, note that each criterion is preceded by the generic evaluation requirement under the ACF Uniform Project Description (UPD).

Part 1—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Additional Information

Following are requests for additional information that need to be included in the application:

Staff and Position Data

Provide a biographical sketch and job description for each key person appointed. Job descriptions for each vacant key position should be included as well. As new key staff is appointed, biographical sketches will also be required.

Budget and Budget Justification

Provide a budget with line-item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Objectives and Need for Assistance (35 Points)

The extent to which the proposal reflects a solid understanding of (a) critical issues, information needs, and research issues of the child care field, (b) the child care subsidy system and TANF, and (c) low-income working families from various cultural, language, and ethnic groups.

The extent to which the conceptual model, objectives and hypotheses are (a) well formulated and appropriately linked, (b) reflect the Bureau's research agenda and goals, and (c) will contribute new knowledge to the field.

The effectiveness with which the proposal articulates the current state of knowledge on (a) the interplay among child care and other early care and education programs, (b) child care and children's development and well-being, or (c) child care and family self-sufficiency.

Approach (35 Points)

The extent to which the proposed research design (a) appropriately links research issues, questions, variables, data sources, samples, and analyses (b) employs technically sound and appropriate approaches, design elements and procedures, and sampling techniques.

The extent to which the proposed design (a) reflects sensitivity to technical, logistical, and ethical issues that may arise (b) includes realistic strategies for the resolution of difficulties, (c) demonstrates how the researcher will gain access to the necessary organizations, participants, and data sources needed for the project.

The extent to which the researchers assure (a) adequate protection of human subjects, confidentiality of data, and consent procedures, as appropriate; and (b) include a sound description of the anticipated results and benefits of the project.

The extent to which the research design (a) specifies the measures to be used and their psychometric properties, (b) describes how these measures have been used to address the proposed research questions, and (c) describes how these measures have been used with the low-income, diverse population to be studied.

Staff and Position (Data 20 Points)

The extent to which the student and his/her mentor (a) demonstrate competence in the areas addressed by the proposed research, including relevant background, experience, and training on related research or similar projects, (b) demonstrate expertise in research design, sampling, field work, data processing, statistical analysis, (c) reflect an understanding of the child care subsidy system and the child care needs of low-income families and the complexities of conducting research within that system and the diverse cultural, language, and ethnic population it serves, and (d) include an effective plan for the dissemination and utilization of information by researchers, policy-makers, and practitioners in the field.

The extent to which the application includes a management plan that presents a sound framework for how the mentor and student will maintain quality control over the implementation and ongoing operations for the study.

Budget and Budget Justification (10 Points)

The extent to which the proposed project costs (a) are reasonable, appropriately allocated, and sufficient to accomplish the objectives, research design, and dissemination plan, (b) include funds for the student, and his/her mentor if applicable, to participate in the CCB's Annual Meeting of the Child Care Policy Research Consortium and the State Administrators' Meeting in Washington, DC (c) are justified according to the needs and time frame for carrying out the proposed project, and (d) includes funds for activities, such as conference attendance, publications, invited lectures, etc.

2. Review and Selection Process

No grant award will be made under this announcement on the basis of an incomplete application.

Application Process: This announcement includes all of the information needed to apply for funding. Detailed instructions for preparing and submitting applications are described. Applicants must follow the prescribed content and format in preparing their applications (see Section IV.2). Applications will be evaluated according to the Evaluation Criteria and the Uniform Project Description (see Section V.1).

Application, Review, Selection, and Award: Each application will be screened to determine whether the applicant institution is eligible.

The review will be conducted in Washington, DC. Expert reviewers may include researchers, Federal or State staff, child care administrators, or other individuals experienced in child care research and evaluation. A panel of at least three reviewers will evaluate each application to determine the strengths and weaknesses of the proposal in terms of the Bureau's research goals and expectations, its fit with the bureau's research agenda, and the evaluation criteria.

Panelists will provide written comments and assign numerical scores for each application. The assigned scores for each criterion will be summed to yield a total evaluation score for the proposal. In addition to the panel review, CCB may solicit comments from other Federal offices and agencies, States, non-governmental organizations, and individuals whose particular expertise is identified as necessary for the consideration of technical issues arising during the review. The Bureau will consider their comments, along with those of the panelists, when making funding decisions. The Bureau will also take into account the best combination of proposed projects to meet its overall research goals.

The ACYF Commissioner will make the final selection of the applicants to be funded. Applications may be funded in whole or in part depending on: (1) Rank order of applicants resulting from the competitive review, (2) staff review and consultations, (3) the combination of projects that best meet the Bureau's research objectives, (4) the funds available; and (5) other relevant considerations.

Since ACF will be using non-Federal reviewers in the process, applicants have the option of omitting from the application copies (not the original) specific salary rates or amounts for individuals specified in the application budget and Social Security Numbers, if otherwise required for individuals. The copies may include summary salary information.

Approved But Unfunded Applications

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competition.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, subaward funds, or contracts under this Child Care Research Scholars Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

Special Terms and Conditions of Awards: The following special term(s) and condition(s) are in addition to the ACF standard terms and conditions which accompany the Financial Assistance Award (FAA) document.

Conference Attendance. The student must attend and present a poster at the Annual Meeting of the Child Care Policy Research Consortium and pre-conference each year of the grant. This conference is typically scheduled during the spring of each year. In addition, the student must attend and present at the State Administrators' Meeting typically held in the summer of each year. The budget should reflect travel funds for both conferences. Faculty advisors are strongly encouraged to attend these conferences as well.

Archiving and Publishing. The student must agree to archive his/her approved dissertation document with Research Connections. The student must also work with CCB staff and Research Connections staff to publish a research/policy brief that can be published on the Research Connections Web site.

3. Reporting Requirements

Program Progress Reports: Semi-annual.

Financial Reports: Semi-annual.

Grantees will be required to submit program progress and financial reports (SF 269) throughout the project period. Program progress and financial reports are due 30 days after the reporting period. In addition, final programmatic and financial reports are due 90 days after the close of the project period. The SF-269 may be found at the following URL: http://www.acf.hhs.gov/programs/ofs/forms.htm.

VII. Agency Contacts

Program Office Contact: Dr. Dawn Ramsburg, Administration for Children and Families, Child Care Bureau, 330 C Street, SW., Switzer Building, Room 2046, Washington, DC 20447. Phone: 202-690-6705; Fax: 202-690-5600; e-mail: dramsburg@acf.hhs.gov.

Grants Management Office Contact: Peter Thompson, Administration for Children and Families, Office of Grants Management, Division of Discretionary Grants, Mary E. Switzer Building, Room 2070, 330 C Street, SW., Washington, DC 20447. Phone: 202-401-4608; Fax: 202-401-5644; e-mail: PAThompson@acf.hhs.gov.

VIII. Other Information

Applicants will not be sent acknowledgements of received applications.

Notice: Beginning with FY 2006, the Administration for Children and Families will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Dated: March 14, 2005.
Joan E. Ohl,
Commissioner, Administration on Children, Youth and Families.

[FR Doc. 05-5554 Filed 3-23-05; 8:45 am]

BILLING CODE 4184-01-P